DEPARTMENT OF ENERGY

Federal Energy Regulatory Commission

[Docket No. CP03-320-000]

ONEOK WesTex Transmission, L.P.; Notice of Petition of Oneok Westex Transmission, L.P. To Amend Blanket Certificate and for Rate Approval Under Section 284.123(b)(2) of the Commission's Regulations and Requests for Waiver and Expedited Consideration

June 19, 2003.

Take notice that on June 16, 2003, ONEOK WesTex Transmission, L.P. (WesTex), a Hinshaw pipeline, filed a petition under section 7(c) of the Natural Gas Act and section 284.224(b) of the Commission's regulations, to amend its blanket certificate to include service over the Palo Duro pipeline system in the State of Texas, and a determination that the existing rate applicable to service over the Palo Duro pipeline system is fair and equitable under section 284.123(b)(2) of the Commission's regulations.

WesTex states that it seeks expedited consideration of its Petition and any waivers of the Commission's regulations necessary to grant its Petition, in order to insure continuity of service to current shippers of Enogex Inc. and prevent the unnecessary shut-in of gas supplies. WestTex explains that expedited consideration of this Petition is necessary given that the existing operator of the Palo Duro system, Enogex, Inc. only recently gave notice that it is terminating the lease of the facilities effective July 1, 2003, and thus will no longer operate the facilities after that date.

Any person desiring to be heard or to protest said filing should file a motion to intervene or a protest with the Federal Energy Regulatory Commission, 888 First Street, NE., Washington, DC 20426, in accordance with sections 385.214 or 385.211 of the Commission's rules and regulations. All such motions or protests must be filed on or before the intervention and protest date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Take further notice that, pursuant to the authority contained in and subject to the jurisdiction conferred upon the Federal Energy Regulatory Commission by sections 7 of the Natural Gas Act, as amended, and the Commission's rules of practice and procedure, a hearing will be held without further notice before the Commission on this application if no petition to intervene is filed within the time required herein, if the Commission on its own review of the matter finds that the certificate is required by the public convenience and necessity. If a petition for leave to intervene is timely filed, or if the Commission on its own motion believes that an oral hearing is required, further notice of such hearing will be duly given. Under the procedure herein provided for, unless otherwise advised, it will be unnecessary for Applicant to appear or be represented at hearing.

Comment Date: July 7, 2003.

Magalie R. Salas,
Secretary.

[FR Doc. 03-16197 Filed 6-25-03; 8:45 am]

BILLING CODE 6717-01-P